ENVIRONMENTAL PROTECTION AGENCY

40 CFR Part 300

[FRL-7147-3]

National Oil and Hazardous Substance Pollution Contingency Plan; National Priorities List

AGENCY: Environmental Protection Agency.

ACTION: Notice of intent to partially delete the California Gulch Superfund Site from the National Priorities List.

SUMMARY: The Environmental Protection Agency (EPA) Region 8 is issuing a notice of intent to partially delete the subunits A and B, residential waste rock piles, and parks and playgrounds within Operable Unit 9 of the California Gulch Superfund Site (Site), located in Lake County, Colorado, from the National Priorities List (NPL) and requests public comments on this notice of intent. The NPL, promulgated pursuant to section 105 of the Comprehensive Environmental Response, Compensation, and Liability Act (CERCLA) of 1980, as amended, is found at appendix B of 40 CFR part 300 which is the National Oil and Hazardous Substances Pollution Contingency Plan (NCP). The EPA and the State of Colorado, through the Colorado Department of Public Health and Environment, have determined that all appropriate response actions under CERCLA, other than operation and maintenance and five-year reviews, have been completed. However, this partial deletion does not preclude future actions under Superfund. In the “Rules and Regulations” Section of today's Federal Register, we are publishing a direct final notice of partial deletion of the California Gulch Superfund Site without prior notice of intent to partially delete because we view this as a noncontroversial revision and anticipate no adverse comment. We have explained our reasons for this partial deletion in the preamble to the direct final partial deletion. If we receive no adverse comment(s) on this notice of intent to partially delete or the direct final notice of partial deletion, we will not take further action on this notice of intent to partially delete. If we receive adverse comment(s), we will withdraw the direct final notice of partial deletion and it will not take effect. We will, as appropriate, address all public comments in a subsequent final partial deletion notice based on this notice of intent to partially delete. We will not institute a second comment period on this notice of intent to partially delete. Any parties interested in commenting must do so at this time. For additional information, see the direct final notice of partial deletion which is located in the Rules section of this Federal Register.

DATES: Comments concerning this Site must be received by March 22, 2002.

ADDRESSES: Written comments should be addressed to: Rebecca Thomas, Remedial Project Manager, Environmental Protection Agency, Region 8, Mail Code 8EPR-SR, 999 18th Street, Suite 300, Denver, CO 80202. Thomas.Rebecca@epamail.epa.gov.

FOR FURTHER INFORMATION CONTACT: Rebecca Thomas, Remedial Project Manager, Environmental Protection Agency, Region 8, Mail Code 8EPR-SR, 999 18th Street, Suite 300, Denver, CO 80202. Thomas.Rebecca@epamail.epa.gov (303) 312-6552 or toll free at (800) 227-8917.

SUPPLEMENTARY INFORMATION: For additional information, see the Direct final notice of partial deletion which is located in the Rules section of this Federal Register.

Information Repositories

Repositories have been established to provide detailed information concerning this decision at the following address:

U.S. EPA Region 8, Superfund Records Center, 999 18th Street, 5th Floor, Denver, CO 80202, (303) 312-6473 or toll free (800) 227-8917; Viewing hours: 8:00 a.m. to 4:30 p.m., Monday through Friday, excluding holidays.

Lake County Pubic Library, 1115 Harrison Avenue, Leadville, CO 80461, (719) 486-0569.

List of Subjects in 40 CFR Part 300

Environmental protection, Air pollution control, Chemicals, Hazardous waste, Hazardous substances, Intergovernmental relations, Penalties, Reporting and recordkeeping requirements, Superfund, Water pollution control, Water supply.

Authority: 33 U.S.C. 1321(c)(2); 42 U.S.C. 9601-9657; E.O. 12777, 56 FR 54757, 3 CFR, 1991 Comp., p. 351; E.O. 12580, 52 FR 2923; 3 CFR, 1987 Comp., p. 193.

Dated: January 30, 2002.
Jack W. McGraw,
Acting Regional Administrator, Region 8.

[FR Doc. 02-3920 Filed 2-19-02; 8:45 am]

BILLING CODE 6560-50-P